DEPARTMENT OF COMMERCE

Economic Development Administration

[991215339-4346-14]

Solicitation of Proposals for the University Center (UC) Program

AGENCY: Economic Development Administration (EDA) Department of Commerce (DOC).

ACTION: Notice and request for proposals.

SUMMARY: EDA is soliciting proposals for FY 2005 University Center funding in the areas served by its Philadelphia and Chicago regional offices. EDA's mission is to lead the federal economic development agenda by promoting innovation and competitiveness, preparing American regions for growth and success in the worldwide economy. Institutions of higher education have many assets, such as faculty, staff, libraries, laboratories, and computer systems, which can help to address local economic problems and opportunities. With funding from EDA, institutions of higher education establish and operate University Centers, which provide technical assistance to public and private sector organizations with the goal of enhancing local economic development. EDA has traditionally renewed an award to a University Center on an annual basis as long as it maintained a satisfactory level of performance and Congress appropriated funds for the program. In FY 2004, EDA began a phased implementation of a three-year competitive grant cycle for all of its University Center projects, beginning with those in the Austin and Denver regional offices. With the competition announced in this notice for University Center projects in the areas served by EDA's Philadelphia and Chicago regional offices, EDA is continuing to phase in competition for University Center funding.

DATES: Proposals must be received by the appropriate EDA regional office by April 22, 2005, at 4 p.m. (EDT).

ADDRESSES: From proponents in Connecticut, Delaware, District of Columbia, Maine, Maryland, Massachusetts, New Hampshire, New Jersey, New York, Pennsylvania, Puerto Rico, Rhode Island, Vermont, Virginia, Virgin Islands, and West Virginia: Economic Development Administration, Philadelphia Regional Office, Curtis Center, 601 Walnut Street, Suite 140 South, Philadelphia, PA 19106.

From proponents in Illinois, Indiana, Michigan, Minnesota, Ohio, and Wisconsin: Economic Development Administration, Chicago Regional Office, 111 North Canal Street, Suite 844, Chicago, IL 60606.

For a copy of the FFO announcement for this request for proposals, please see the Web site below listed under “Electronic Access.”

FOR FURTHER INFORMATION CONTACT: For additional information or for a paper copy of the FFO announcement, contact the appropriate EDA regional office listed above. EDA's Web site, http://222.eda.gov contains additional information on EDA and its program.

SUPPLEMENTARY INFORMATION: Electronic Access: EDA is not currently able to accept electronic submission of proposal packages. However, the full funding opportunity announcement for the FY 2005 Economic Development Assistance Programs competition is available through Grants.gov at http://www.grants.gov. Additional information is available through EDA's Web site, http://www.eda.gov.

Funding Availability: Funding appropriated under Public Law 108-447 is available for technical assistance programs authorized by the Public Works and Economic Development Act of 1965, as amended (Public Law 89-136, 42 U.S.C. 3121, et seq.), and as further amended by Public Law 105-393 and 108-373, and for trade adjustment assistance authorized under title II, chapters 3 and 5 of the Trade Act of 1974, as amended (19 U.S.C. 2341-2355; 2391), and as further amended by Public Law 107-210. Funds in the amount of $8,322,335 have been appropriated for FY 2005 and shall remain available until expended.

EDA expects to allocate approximately $6.8 M to the University Center Program and the remaining funds to LEDA's Local and National Technical Assistance programs. The amount of University Center funding available for competition in FY 2005 is expected to be approximately $1,717,517 in the Philadelphia Regional Office and approximately $918,376 in the Chicago Regional Office. Anticipated annual awards for University Centers under the FY 2005 competition are in the $75,000 to $200,000 range. Regional Offices may, however, choose to fund proposals under this competition outside that range. The remaining FY 2005 program funds will be used to continue support for current University Centers. Subject to the availability of funding, the funds made available under this Program are anticipated to be available until expended.

Statutory Authority: The authority for programs listed below is the Public Works and Economic Development Act of 1965, as amended (Public Law 89-136, 42 U.S.C. 3121, et seq.) and as further amended by the Economic Development Administration Reauthorization Act (Public Law 108-373).

CFDA: 11.303, Economic Development—Technical Assistance.

Eligibility: For the University Center program, EDA considers all accredited institutions of higher education as eligible applicants.

For FY 2005 the University Center competition is open to eligible applicants in areas served by EDA's Philadelphia regional office and Chicago regional office. The Philadelphia regional office serves Connecticut, Delaware, District of Columbia, Maine, Maryland, Massachusetts, New Hampshire, New Jersey, New York, Pennsylvania, Puerto Rico, Rhodes Island, Vermont, Virginia, Virgin Islands, and West Virginia. The Chicago region serves Illinois, Indiana, Michigan, Minnesota, Ohio, and Wisconsin.

Cost Sharing Requirements: Generally, the amount of the EDA grant may not exceed 50 percent of the cost of the project, unless the project meets the requirements in 42 U.S.C. 3144. Projects meeting the criteria may receive an additional amount that shall not exceed 30 percent, based on the relative needs of the area in which the project will be located. See 42 U.S.C. 3144. While cash contributions are encouraged, in-kind contributions, fairly evaluated by EDA, may include assumptions of debt and contributions of space, equipment, and services and may provide the non-Federal share of the project cost. 42 U.S.C. 3144. In-kind contributions must be eligible project costs and meet applicable Federal cost principles and uniform administrative requirements. Id. EDA may supplement the costs of a project up to and including 100 percent of such project costs where the applicant is able to demonstrate that the project meets the requirements of 42 U.S.C. 3144(c). Potential applicants should contact the appropriate EDA office to make this determination.

Funds from other Federal awards may not be considered matching funds. The nature of contribution (cash versus in-kind) and the amount of matching funds will be taken into consideration in the review process. Cash contributions are preferred.

Intergovernmental Review: Applications under this program are subject to Executive Order 12372, “Intergovernmental Review of Federal Programs.”

Evaluation and Section Procedures: EDA's Philadelphia and Chicago regional offices will conduct an initial administrative and technical review of each proposal package to determine its completeness and compliance with requirements.

EDA's Philadelphia and Chicago regional offices will then conduct an internal review of each proposal meeting the requirements of this solicitation. This review will be conducted by a minimum of three EDA staff using the criteria provided in the “Evaluation Criteria” section below. Successful proponents under this competition solicitation will be invited to submit a complete application by the Philadelphia or Chicago regional office.

Evaluation Criteria: EDA investments in proposed University Centers will be competitively rated and ranked on their ability to meet or exceed the criteria set forth at 13 CFR 304.2, as further defined by the following investment policy guidelines (each criterion will be given equivalent weight):

1. Be market-based and results driven. An investment in an EDA University Center will capitalize on the university's competitive strengths and will bolster regional economic competitiveness, resulting in tangible, quantifiable improvements in regional economic health—such as increased numbers of higher-skill, higher-wage jobs, increased tax revenue or increased private sector investment.

2. Have strong organizational leadership. An investment will have strong leadership, relevant project management experience, and a significant commitment of human resources talent to ensure a high-performing University Center. Specifically for University Center investments, this includes; (a) the extent to which the proposed University Center will maximize coordination with other relevant organizations and avoid duplication of services offered by other organizations, (b) the extent to which the University Center will access, take advantage of, and be supported by the other resources present at the sponsoring institution—especially the institution's economic development activities, (c) the degree of evidence demonstrating the support and commitment (both financial and non-financial) of the proposed University Center's mission from the leadership of the sponsoring institution.

3. Advance productivity, innovation and entrepreneurship. An investment in a proposed University Center will embrace the principles of entrepreneurship; enhance regional industry clusters, and leverage and link technology innovators (university research) with the private sector to create the conditions for greater productivity, innovation and higher-skill, higher-wage job creation.

4. Look beyond the immediate economic horizon, anticipate economic changes, and diversify the local and regional economy. A University Center's activities will be part of an overarching, long-term comprehensive economic development strategy that enhances a region's success in achieving a rising standard of living.

5. Demonstrate a high degree of commitment by exhibiting:

• High levels of local government or non-profit matching funds and private sector leverage.

• Clear and unified leadership and support by local elected officials.

• Strong cooperation between the business sector, relevant regional partners and local, state and federal governments.

In making its recommendations on which institutions should be invited to submit a full application, the EDA review team will strive to avoid the concentration of program funding in a single or very limited number of geographic areas. For that reason, EDA cannot predict a minimum ranking of a successful proposal.

Selection Factors: EDA expects to fund the highest ranking proposals submitted under this competition of solicitation. However, EDA may selected proposals out of order for several reasons including: (1) Availability of funding; (2) geographic balance in distribution of funds; (3) program priorities and policy factors as set out in the full funding opportunity announcement; or (4) applicant's performance under previous awards.

The Department of Commerce Pre-Award Notification Requirements for Grants and Cooperative Agreements

The Department of Commerce Pre-Award Notification Requirements for Grants and Cooperative Agreements contained in the Federal Register notice of October 1, 2001 (66 FR 49917), as amended by the Federal Register notice published on October 30, 2002 (67 FR 66109), are applicable to this solicitation.

Teleconference

EDA's Philadelphia and Chicago regional offices will each hold a teleconference to answer questions about the FY 2005 competition for University Center funding.

Philadelphia: The Philadelphia regional office will hold its call on March 23, 2005, at 2 p.m. EST. In order to assure enough incoming lines are available, EDA requests colleges and universities planning to participate in the conference call to send an email to WGood@eda.doc.gov with “Conference Call Registration” in the subject line no later than 5 p.m. EST on March 18, 2005. The number for the conference call is 888-928-9122. The pass code for this conference call is “PRO.”

Chicago: The Chicago regional office will hold its call on March 22, 2005, at 11 a.m. CST. In order to assure enough incoming lines are available, EDA requests colleges and universities planning to participate in the conference call to send an email to RBUSH@eda.doc.gov with “Conference Call Registration” in the subject line no later than 5 p.m. CST on March 18, 2005. The number for conference call is 888-570-6152. The pass code for this conference call is “54776.”

Paperwork Reduction Act

This document contains collection-of-information requirements subject to the Paperwork Reduction Act (PRA). The use of Form ED-900P has been approved by OMB under the control number 0610-0094. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with federalism implications as that term is defined in Executive Order 13132.

Administrative Procedure Act/Regulatory Flexibility Act

Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: December 21, 2004.
David A. Sampson,
Assistant Secretary for Economic Development.

[FR Doc. 04-28375 Filed 12-27-04; 8:45 am]

BILLING CODE 3510-24-M